DEPARTMENT OF JUSTICE

Notice of Lodging of Partial Consent Decree Pursuant to the Comprehensive Environmental Response, Compensation, and Liability Act

On August 7, 2021, the Department of Justice lodged a proposed Partial Consent Decree Regarding Certain Cost Claims (“Consent Decree”) in the United States District Court for the Central District of California, in the lawsuit entitled the United States of America and State of California v. Shell Oil Company, et al., Civil Action No. 2:91-CV-00589 (CJC).

This Consent Decree represents a settlement of certain cost claims of the United States (“Plaintiff”) against Shell Oil Company, (“Shell” or “Defendant”) under Sections 106, 107, and 113 of the Comprehensive Environmental Response, Compensation, and Liability Act (“CERCLA”), 42 U.S.C. 9606, 9607, and 9613, relating to the McColl Superfund Site in Fullerton, California. Under the proposed Consent Decree, Shell will be required to pay the United States $29,501,511.85, plus interest in the amount of $3,059.39, and $75.83 per day from 3/16/2021 through the date of payment. Shell is also required under the Consent Decree to pay its allocated fair share of future response costs.

The publication of this notice opens a period for public comment on the Consent Decree. Comments should be addressed to the Assistant Attorney General, Environment and Natural Resources Division, and should refer to United States of America v. Shell Oil Company, et al, and the D.J. Ref. No. 90-11-2-3A. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Amended Consent Decree may be examined and downloaded at this Justice Department website: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $6.25 (25 cents per page reproduction cost) payable to the United States Treasury for the Consent Decree and $20.00 for the Consent Decree and Appendices thereto.

Lori Jonas,
Assistant Section Chief, Environmental Enforcement Section, Environment and Natural Resources Division.

[FR Doc. 2021-17281 Filed 8-12-21; 8:45 am]

BILLING CODE 4410-CW-P